DEPARTMENT OF TRANSPORTATION

Pipeline and Hazardous Materials Safety Administration

[Docket No. PHMSA-2008-0211]

Information Collection Activities

AGENCY: Pipeline and Hazardous Materials Safety Administration (PHMSA), DOT.

ACTION: Notice and request for comments.

SUMMARY: In accordance with the Paperwork Reduction Act of 1995, the Pipeline and Hazardous Materials Safety Administration (PHMSA) invites comments on its intention to revise forms PHMSA F 7100.2—Incident Report For Gas Transmission and Gathering Systems; PHMSA F 7100.1—Incident Report for Gas Distribution Systems; and PHMSA F 7000-1—Accident Report for Hazardous Liquid Pipeline Systems, and its intention to request approval from the Office of Management and Budget (OMB) for revised information collection burdens.

DATES: Interested parties are invited to submit comments on or before November 3, 2008.

ADDRESSES: You may submit comments identified by the docket number PHMSA-2008-0211 by any of the following methods:

• Federal eRulemaking Portal: http://www.regulations.gov. Follow the online instructions for submitting comments.

• Fax: 1-202-493-2251.

• Mail: Docket Management System, U.S. Department of Transportation, Docket Operations, M-30, West Building Ground Floor, Room W12-140, 1200 New Jersey Avenue, SE., Washington, DC 20590.

• Hand Delivery: Docket Operations, M-30, West Building Ground Floor, Room W12-140, 1200 New Jersey Avenue, SE., Washington, DC 20590, from 9 a.m. to 5 p.m., Monday through Friday, except Federal holidays.

Instructions: All submissions must include the agency name and docket number or Regulation Identification Number (RIN) for this notice. Internet users may access comments received by DOT at: http://www.regulations.gov. Note that comments received will be posted without change to: http://www.regulations.gov including any personal information provided.

Requests for a copy of an information collection should be directed to Roger Little by telephone at 202-366-4569, by fax at 202-366-4566, or by mail at U.S. Department of Transportation, Pipeline and Hazardous Materials Safety Administration, 1200 New Jersey Avenue, SE., PHP-10, Washington, DC 20590-0001.

FOR FURTHER INFORMATION CONTACT: Roger Little by telephone at 202-366-4569, by fax at 202-366-4566, or by mail at U.S. Department of Transportation, Pipeline and Hazardous Materials Safety Administration, 1200 New Jersey Avenue, SE., PHP-10, Washington, DC 20590-0001.

SUPPLEMENTARY INFORMATION: Section 1320.8(d), Title 5, Code of Federal Regulations requires PHMSA to provide interested members of the public and affected agencies an opportunity to comment on information collection and recordkeeping requests. This notice identifies revised information collection requests that PHMSA will be submitting to OMB for renewal and extension. The information collected pertaining to reportable natural gas transmission incidents provides an important tool for identifying safety trends in the gas pipeline industry. The National Transportation Safety Board (NTSB), and the Government Accountability Office (GAO) have urged PHMSA to revise the information collected on the natural gas pipeline operator incident and hazardous liquid pipeline operator accident report forms. NTSB Safety Recommendation P-05-04 recommends that PHMSA take action to change the liquid accident reporting form (PHMSA F 7000-1) and require operators to provide data related to controller fatigue. Additionally, section 20 of the Pipeline Inspection, Protection, Enforcement, and Safety Act of 2006 (PIPES Act) requires PHMSA to “amend accident reporting forms to require operators of gas and hazardous liquid pipelines to provide data related to controller fatigue.” GAO recommended in its report, GAO-06-946 titled “Integrity Management Benefits Public Safety, but Consistency of Performance Measures Should Be Improved” that “To improve the consistency and usefulness of the integrity management performance measures, we are recommending that the Secretary of Transportation direct the Administrator for the Pipeline and Hazardous Materials Safety Administration to take the following two actions:

(1) Revising the definition of a reportable incident to consider changes in the price of natural gas; and

(2) Establish consistent categories of causes for incidents and leaks on all gas pipeline reports.” Recommendation number (1) is to be addressed by a future rulemaking and recommendation number (2) is addressed through improvements in incident forms addressed through this information collection request (ICR).

PHMSA consulted industry and trade association representatives of the Interstate Natural Gas Association of America, the American Gas Association, the American Petroleum Institute, and state pipeline safety office representatives through the National Association of Pipeline Safety Representatives, in considering revisions to the natural gas pipeline operator incident and hazardous liquid pipeline operator accident report forms to make the information collected more useful to industry, government, and the public.

PHMSA has revised burden estimates, where appropriate, to reflect revisions to the accident and incident reporting forms since the information collections were last approved. The following information is provided for each information collection: (1) Abstract for affected accident and incident reporting forms; (2) title of the information collection; (3) OMB control number; (4) affected accident or incident form; (5) description of affected public; (6) estimate of total annual reporting and recordkeeping burden; and (7) frequency of collection. PHMSA will request a three-year term of approval for each information collection activity and, when approved by OMB, publish notice of the approval in the Federal Register.

PHMSA requests comments on the following information collections:

Abstract: To ensure adequate public protection from exposure to potential natural gas and hazardous liquid pipeline failures, PHMSA collects information on reportable natural gas pipeline incidents and hazardous liquid pipeline accidents. Additional information is also obtained concerning the characteristics of an operator's pipeline system. This information is needed for normalizing the incident information in order to provide for adequate safety trending. The requirements for reporting natural gas incidents are found in 49 CFR Part 191 and for reporting hazardous liquid pipeline accidents are found in 49 CFR Part 195. The regulations require submission of these reports within 30 days of the incident or accident occurrence. The information is used to assist Federal and state pipeline safety programs for accident trending and by industry, trade associations and other interested stakeholders, and to provide a background for accident investigations.

Title: Transportation of Hazardous Liquids by Pipeline: Recordkeeping and Accident Reporting.

OMB Control Number: 2137-0047.

Form: Accident Report—Hazardous Liquid Pipeline Systems (Form No. PHMSA-7000-1).

Affected Public: Hazardous liquid pipeline operators.

Recordkeeping:

Number of Respondents: 200.

Total Annual Responses: 130 long form, 200 short form.

Long form is for spills of five or more barrels; short form is for spills of 5 gallons to less than 5 barrels.

Total Annual Burden Hours: 1332.

Frequency of collection:

Short form: 200 reports/200 operators per year = 1 short form per operator annually;

130 reports/200 operators per year = .65 long forms per operator annually.

Title: Incident and Annual Reports for Gas Pipeline Operators.

OMB Control Number: 2137-0522.

Form: Incident Report—Gas Distribution System (Form PHMSA F 7100.1).

Affected Public: Natural gas distribution pipeline operators.

Recordkeeping:

Number of Respondents: 1200.

Total Annual Responses: 155.

Total Annual Burden Hours: 1210.

Frequency of collection: 155 incidents per year /1200 operators = 0.14.

Title: Incident and Annual Reports for Gas Pipeline Operators.

OMB Control Number: 2137-0522.

Form: Incident Report—Gas Transmission and Gathering Systems (Form PHMSA F 7100.2).

Affected Public: Natural gas transmission pipeline operators.

Recordkeeping:

Number of Respondents: 900.

Total Annual Responses: 153.

Total Annual Burden Hours: 1,102.

Frequency of collection: 153 incidents per year/900 operators = 0.17.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC on August 28, 2008.
Joy O. Kadnar,
Acting Associate Administrator for Pipeline Safety.

[FR Doc. E8-20440 Filed 9-3-08; 8:45 am]

BILLING CODE 4910-60-P